DEPARTMENT OF COMMERCE

National Oceanic and Atmospheric Administration

[RTID 0648-XA506]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Habitat Protection and Ecosystem-Based Management Advisory Panel (Habitat AP).

DATES: The Habitat AP meet on Wednesday via webinar on October 21, 2020, from 9 a.m. to 12 noon and from 1 p.m. to 4 p.m.; and Thursday, October 22, 2020, from 9 a.m. to 12 noon.

ADDRESSES:

Meeting address: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat AP meeting is open to the public and will be available via webinar as it occurs. Registration is required. Webinar registration information and other meeting materials will be posted to the Council's website at: http://safmc.net/safmc-meetings/current-advisory-panel-meetings/ as it becomes available.

The Habitat AP meeting agenda includes the following:

Updates on NOAA Fisheries Ecosystem-Based Fishery Management Activities for the South Atlantic Region including a Draft South Atlantic Ecosystem Status Report and a Draft South Atlantic Climate Vulnerability Analysis; Fishery Ecosystem Plan (FEP) II Implementation Plan Roadmap update; and the South Atlantic Ecopath with Ecosim model, Scientific and Statistical Committee (SSC) Model Workgroup review, model applications and Ecospace development.

AP members will also receive; a research overview and update on Mapping/Characterization of South Atlantic Deep Water Coral Ecosystems and discuss possible future conservation action. The AP will initiate review of the Council's Essential Fish Habitat (EFH) Policy Statement on Beach Re-nourishment and Large-Scale Coastal Engineering and receive presentations on: Sand Shoals and Fish Habitat Value project; the Folly Beach Re-nourishment Monitoring Study; and on An Assessment of Fisheries Species to Inform Time-of-Year Restrictions for North Carolina and South Carolina.

The AP will also receive briefings on: Bureau of Ocean Energy Management (BOEM) sponsored research and energy development with a focus on renewable energy and the Kitty Hawk Offshore wind project; the Bahamian oil spill as a result of Hurricane Dorian; and the Southeast Seafloor Mapping Prioritization project.

The AP will develop recommendations as necessary for consideration by the Council's Habitat Protection and Ecosystem-Based Management Committee.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: September 28, 2020.
Tracey L. Thompson,
Acting Deputy Director, Office of Sustainable Fisheries, National Marine Fisheries Service.

[FR Doc. 2020-21736 Filed 9-30-20; 8:45 am]

BILLING CODE 3510-22-P